DEPARTMENT OF THE INTERIOR

Bureau of Land Management

[LLWO250000-L12200000.PM0000; OMB Control Number 1004-0119]

Information Collection; Permits for Recreation on Public Lands

AGENCY: Bureau of Land Management, Interior.

ACTION: 30-Day notice and request for comments.

SUMMARY: The Bureau of Land Management (BLM) has submitted an information collection request to the Office of Management and Budget (OMB) for a 3-year extension of OMB Control Number 1004-0119 under the Paperwork Reduction Act. This control number includes paperwork requirements in 43 CFR part 2930, which pertains to permits for recreation and public lands.

DATES: The OMB is required to respond to this information collection request within 60 days but may respond after 30 days. Therefore, written comments should be received on or before September 20, 2010 in order to be assured of consideration.

ADDRESSES: Submit comments directly to the Desk Officer for the Department of the Interior (OMB #1004-0119), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. Please send a copy of your comments by electronic mail to jean_sonneman@blm.gov or by fax to Jean Sonneman at 202-912-7102.

FOR FURTHER INFORMATION CONTACT: You may contact Judi Zuckert at 202-912-7093. Persons who use a telecommunication device for the deaf (TDD) may call the Federal Information Relay Service (FIRS) on 1-800-877-8339, 24 hours a day, seven days a week, to contact Ms. Zuckert. You may also contact Ms. Zuckert to obtain a copy, at no cost, of the regulations and forms that require this collection of information.

SUPPLEMENTARY INFORMATION: The following information is provided for the information collection:

Title: Permits for Recreation on Public Lands (43 CFR part 2930).

Forms: Form 2930-1, Special Recreation Permit Application.

OMB Number: 1004-0119.

Type of Review: Revision of a currently approved information collection.

Abstract: This notice pertains to information collections that are necessary for the management of recreation on public lands. The BLM is required to manage commercial, competitive and organized group recreational uses of the public lands, and individual use of special areas. This information allows the BLM to collect the required information to authorize and collect fees for recreation use on public lands. The currently approved information collection consists of the collection of non-form information in accordance with 43 CFR part 2930, and Form 2930-1 (Special Recreation Permit Application and Permit). We are proposing to revise Form 2930-1 to be used only as a Special Recreation Permit Application. Responses are required to obtain or retain a benefit.

Frequency of Collection: On occasion for all aspects of this information collection.

Annual Burden Hours: 14,776, based on 4 hours per response; 3,694 responses.

Annual Non-Hour Burden Cost: There are no processing fees associated with this collection.

60-Day Notice: As required in 5 CFR 1320.8(d), the BLM published the 60-day notice in the Federal Register on March 25, 2010 (75 FR 14458) soliciting comments from the public and other interested parties. The comment period closed on May 24, 2010. The BLM received one comment. The comment did not address, and was not germane to, this information collection; rather, it was a general invective about the Department of the Interior and the BLM. Therefore, we have no response to the comment.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB Control Number 1004-0119 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-20606 Filed 8-18-10; 8:45 am]

BILLING CODE 4310-84-P